DEPARTMENT OF TRANSPORTATION

Federal Highway Administration

Environmental Impact Statement: Washoe County, Nevada

AGENCY: Federal Highway Administration (FHWA), DOT.

ACTION: Notice of intent.

SUMMARY: The FHWA is issuing this notice to advise the public that an environmental impact statement will be prepared for transportation improvements in the Interstate 80(I-80), Interstate 580 (I-580), United States Highway 395 (US 395) Interchange, and connecting roads in the City of Reno and City of Sparks, Washoe County, Nevada. The I-80/I-580/US 395 Interchange is known locally as the Spaghetti Bowl.

FOR FURTHER INFORMATION CONTACT: Mr. Abdelmoez Abdalla, Environmental Program Manager, Federal Highway Administration, 705 N. Plaza, Suite 220, Carson City, NV 89701; Telephone: (775) 687-1231, email: abdelmoez.abdalla@dot.gov, and Steve Cooke, Environmental Services Chief, Nevada Department of Transportation, 1263 S. Stewart Street, Carson City, NV 89712; Telephone (775) 888-7686, email: scooke@dot.nv.gov.

SUPPLEMENTARY INFORMATION: The FHWA, in cooperation with the Nevada Department of Transportation (NDOT), will prepare an environmental impact statement (EIS) on a proposal to reconstruct the Spaghetti Bowl in the cities of Reno and Sparks in Washoe County, Nevada. The proposed project will study improvements to the Spaghetti Bowl and major street connections on I-580/US 395 from Meadowood Mall Way Drive on the south to Parr Avenue/Dandini Boulevard on the north and I-80 from Keystone Avenue on the west to Pyramid Way on the east. The study includes approximately 7.3 miles ofI-580/US 395 and 4.3 miles of I-80.

The project will study the operations, capacity, and safety of the interchange while addressing all modes of travel as appropriate. Regionally, I-80 connects San Francisco, Sacramento, Reno and Salt Lake City. I-580 links Carson City with Reno, and US 395 serves as an important regional route.

The Spaghetti Bowl was originally constructed between 1969 and 1971 for a metropolitan population of about 130,000 people. The current population of Reno and Sparks has increased to approximately 327,000 people and Washoe County's population is approximately 435,000. The projected population growth, associated commercial development, increased inflows and outflows of freight serving local manufacturing and distribution centers, and increasing tourism and gaming will place significant demand on the study area. The project will focus on short- and long-term transportation needs of the region, specifically to provide transportation improvements in response to regional growth to decrease congestion, enhance mobility, and provide access to the downtown area.

The EIS will consider the effects of the proposed project, the No Action alternative, and other alternatives to the proposed project.

Letters describing the proposed action and soliciting comments will be sent to appropriate Federal, State, and local agencies; Native American Tribes; private organizations; and citizens who have previously expressed or are known to have interest in this project. An agency scoping meeting will be held in Sparks, Nevada on April 12, 2017, at 1 p.m. at the Sparks Public Library. Public information meetings will also be held on April 12, 2017, at the Sparks Public Library and on April 13, 2017, at Wooster High School, Reno, with the appropriate agencies and the general public. The public information meetings will be open house format from 4-7 p.m. with a presentation at 5:30 p.m. In addition, public information meetings will be held throughout the duration of the project and a public hearing will be held for the draft EIS. Public notices will be given announcing the time and place of the public meetings and the hearing. The draft EIS will be available for public and agency review and comment prior to the public hearing.

To ensure that the full range of issues related to this proposed action is addressed and all significant issues are identified, comments and suggestions are invited from all interested parties. Comments or questions concerning this proposed action and the EIS should be directed to the FHWA or NDOT at the addresses and emails provided above.

(Catalog of Federal Domestic Assistance Program Number 20.205, Highway Planning and Construction. The regulations implementing Executive Order 12372 regarding intergovernmental consultation on Federal programs and activities apply to this program.)

Dated: March 8, 2017.
Susan E. Klekar,
Division Administrator, Carson City, Nevada.

[FR Doc. 2017-05164 Filed 3-14-17; 8:45 am]

BILLING CODE 4910-22-P